DEPARTMENT OF THE INTERIOR

Bureau of Land Management

[UT-050-1610-DH-24-1A]

Notice of Availability of Environmental Assessment (EA)/Finding of No Significant Impact (FONSI) for a Proposed Plan Amendment to the Henry Mountain Management Framework Plan (MFP)

AGENCY: Bureau of Land Management, Interior.

SUMMARY: Notice is hereby given that the Utah Bureau of Land Management, Richfield Field Office has completed an EA/FONSI for a Proposed Amendment to the Henry Mountain MFP and is available for public review. The public lands involved are covered by the Henry Mountain MFP and are located in Townships 28 through 30 South, Ranges 15 through 17 East, Salt Lake Meridian, Utah.

A livestock permittee (in coordination with the BLM and a land conservation group) has proposed to voluntarily relinquish a portion of his livestock grazing privileges within the Robbers Roost Allotment for the long term benefit of land and wildlife resources. Subsequently, the proposed action would be to prohibit livestock grazing in a portion of the Robbers Roost Allotment and would amend the MFP by changing the allocation of livestock forage within that area. In order to keep livestock out of the area of the allotment where grazing privileges are relinquished, construction of two segments of new fence and a cattleguard would be necessary.

DATES: The protest period for this proposed amendment commences with the publication of this notice. Protests must be submitted to the Director of the Bureau of Land Management on or before March 20, 2000. In accordance with 43 CFR 1610.5-2, Protest Procedures, any person who has participated in this planning process and has an interest which is or may be adversely affected by the amendment of this management framework plan may protest this proposed amendment to the Director of the Bureau of Land Management.

ADDRESSES: Protests to the proposed plan amendment must be addressed and sent to the Director (WO-210), Bureau of Land Management, Attn: Brenda Williams, Resource Planning Team, 1849 C Street, NW., Washington, DC 20240, within 30 days after the date of publication of this notice for the proposed planning amendment. All protests must contain the following information: (1) The name, mailing address, telephone number and interest of the person filing the protest; (2) a statement of the issue(s) being protested; (3) a statement of the part(s) of the amendment being protested; (4) a copy of all documents addressing the issue(s) that were submitted during the planning process by the protesting party; and (5) a concise statement why the State Director's decision is believed to be wrong.

SUPPLEMENTARY INFORMATION: Comments, including names and street addresses of respondents, will be available for public review at the address below during regular business hours (8:00 a.m. to 5:00 p.m.), Monday through Friday, except holidays, and may be published as part of the environmental assessment or other related documents. Individual respondents may request confidentiality. If you wish to withhold your name and address from public review or from disclosure under the Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: Gary L. Hall, Assistant Field Manager, Henry Mountains Field Station, Richfield Field Office, 150 East 900 North, Richfield, Utah 84701 telephone number 435-542-3461 or 435-896-1564. Copies of the Proposed Plan Amendment are available for review at the Richfield Field Office.

Sally Wisely,
State Director, Utah.

[FR Doc. 00-3792 Filed 2-16-00; 8:45 am]

BILLING CODE 4310-DQ-P